DEPARTMENT OF LABOR

Office of the Secretary

Submission for OMB Review: Comment Request

September 28, 2007.

The Department of Labor (DOL) hereby announces the submission the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: king.darrin@dol.gov.

Comments should be sent to Office of Information and Regulatory Affairs, Attn: John Kraemer, OMB Desk Officer for the Mine Safety and Health Administration (MSHA), Office of Management and Budget, 725 17th Street, NW., Room 10235, Washington, DC 20503, Telephone: 202-395-4816 / Fax: 202-395-6974 (these are not toll-free numbers), e-mail: John_Kraemer@omb.eop.gov within 30 days from the date of this publication in the Federal Register. In order to ensure the appropriate consideration, comments should reference the applicable OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title: Application for Waiver of Surface Facilities Requirements.

OMB Number: 1219-0024.

Estimated Number of Respondents: 843.

Estimated Total Annual Burden Hours: 322.

Estimated Total Annual Cost Burden: $0.

Affected Public: Private Sector: Business or other for-profit (Mines).

Description: Title 30 Code of Federal Regulations (CFR). §§ 71.400 through 71.402 and 75.1712-1 through 75.1712-3 require coal mine operators to provide bathing facilities, clothing change rooms, and sanitary flush toilet facilities in a location that is convenient for use of the miners. If the operator is unable to meet any or all of the requirements, he/she may apply for a waiver. Title 30 CFR 71.403, 71.404, 75.1712-4 and 75.1712-5 provide procedures by which an operator may apply for and be granted a waiver. Applications are filed with the District Manager for the district in which the mine is located and must contain the name and address of the mine operator, name and location of the mine, and a detailed statement of the grounds upon which the waiver is requested.

The information is used to determine if the conditions at a mine make it impractical for the mine operator to provide the required sanitary facilities. The mine operator submits the request for a waiver to the MSHA district in which the mine is located. The district uses this information in determining if the conditions at a mine justify granting the waiver. If the waiver is granted, the information serves as written documentation that the mine operator is not required to comply with the applicable part(s) of the standard(s) covered by the waiver.

Agency: Mine Safety and Health Administration.

Type of Review: Extension without change of currently approved collection.

Title: Representative of Miners, Notification of Legal Identity, and Notification of Commencement of Operations and Closing of Mines.

OMB Number: 1219-0042.

Estimated Number of Respondents: 4,945.

Estimated Total Annual Burden Hours: 2,347.

Estimated Total Annual Cost Burden: $3,550.

Affected Public: Private Sector: Business or other for-profit (Mines).

Description: Identification of the miner representative, notification of mine owner and operator legal identity and notification of commencement of operations and closing of mines provide information to help ensure the health and safety of mine workers by identifying responsibility for mining operations.

Agency: Mine Safety and Health Administration.

Type of Review: Extension without change of currently approved collection.

Title: Record of Results of Examinations of Self-Rescuers (Underground Coal Mines).

OMB Number: 1219-0044.

Estimated Number of Respondents: 719.

Estimated Total Annual Burden Hours: 124,375.

Estimated Total Annual Cost Burden: $0.

Affected Public: Private Sector: Business or other for-profit (Mines).

Description: Title 30 CFR 75.1714-3(b), (c), (d), and (e) require that self-rescuers be examined regularly at intervals not to exceed 90 days by a qualified person who certifies by date and signature that the tests were conducted. A record must be made when a self-rescue device is removed from service and when corrective action is taken as a result of the examination. The records are used as an enforcement tool to insure that the devices have been examined and are maintained in operable and usable condition.

Agency: Mine Safety and Health Administration.

Type of Review: Extension without change of currently approved collection.

Title: Escape and Evaluation Plans 30 CFR 57.11053.

OMB Number: 1219-0046.

Estimated Number of Respondents: 242.

Estimated Total Annual Burden Hours: 4,114.

Estimated Total Annual Cost Burden: $0.

Affected Public: Private Sector: Business or other for-profit (Mines)

Description: Title 30 CFR 57.11053 requires the development of an escape and evacuation plan specifically addressing the unique conditions of each underground metal and nonmetal mine. Section 57.11053 also requires that revisions be made as mining progresses. The plan must be available to the inspector and conspicuously posted at locations convenient to all persons on the surface and underground. The mine operator and representatives of the Mine Safety and Health Administration (MSHA) are required to jointly review the plan at least once every six months. The information is prepared by the mine operator for use by miners, MSHA, and persons involved in rescue operations. The information allows miners and rescue personnel to be aware of the emergency escape route for a particular working place.

Agency: Mine Safety and Health Administration.

Type of Review: New collection of information.

Title: Qualification/Certification Program Request for MSHA Individual Identification Number (MIIN).

OMB Number: 1219-0NEW.

Estimated Number of Respondents: 40,000.

Estimated Total Annual Burden Hours: 3,332.

Estimated Total Annual Cost Burden: $11,439.

Affected Public: Private Sector: Business or other for-profit (Mines).

Description: MSHA issues certifications, qualifications and approvals (licenses) to the nation's miners to conduct specific mine-related work. In an effort to reduce the use of Social Security Numbers as identifiers, MSHA will issue Individual Identification Numbers, or MIIN, where identification is required by MSHA for miners.

Darrin A. King,
Acting Departmental Clearance Officer.

[FR Doc. E7-19575 Filed 10-3-07; 8:45 am]

BILLING CODE 4510-43-P